SMALL BUSINESS ADMINISTRATION

13 CFR Part 120

Small Business Jobs Act: Eligible Loans for 504 Loan Program Debt Refinancing

AGENCY: U.S. Small Business Administration.

ACTION: Announcement of loan eligibility.

SUMMARY: The SBA is issuing this document to allow loans with any maturity date to be eligible for debt refinancing under the Small Business Jobs Act.

DATES: Effective Date: This document is effective April 4, 2011.

FOR FURTHER INFORMATION CONTACT: Andrew B. McConnell, Jr., Office of Financial Assistance, U.S. Small Business Administration, 409 Third Street, SW., Washington, DC 20416; Telephone (202) 205-7238; e-mail: Andrew.McConnell@sba.gov.

SUPPLEMENTARY INFORMATION: Under the temporary 504 debt refinancing program authorized by the Small Business Jobs Act (Jobs Act), Public Law 111-240, 124 Stat. 2504, only loans that will mature on or before December 31, 2012, are eligible for this temporary program, unless SBA publishes a Notice in the Federal Register extending such date based on its assessment of available resources and market conditions. See 13 CFR 120.882(g)(3). SBA established this initial maturity date in order to ensure that those small businesses most in need would have access to the limited resources available in this temporary program. Based on a review of program demand, SBA has determined that it currently has the resources available to accept applications for the refinancing of loans with any maturity date. Effective immediately, such loans will now be eligible for this temporary debt refinancing program if they also meet the other statutory and regulatory requirements.

Authority: 13 CFR part 120.

Grady B. Hedgespeth,
Director, Office of Financial Assistance.

[FR Doc. 2011-7862 Filed 4-1-11; 8:45 am]

BILLING CODE 8025-01-P